FEDERAL ACCOUNTING STANDARDS ADVISORY BOARD

Notice of Issuance of Statement of Federal Financial Accounting Standards (SFFAS) No. 31, Accounting for Fiduciary Activities, and Preliminary Views Document Entitled Accounting for Social Insurance, Revised (PV)

AGENCY: Federal Accounting Standards Advisory Board.

ACTION: Notice.

Board Action: Pursuant to 31 U.S.C. 3511(d), the Federal Advisory Committee Act (Pub. L. No. 92-463), as amended, and the FASAB Rules Of Procedure, as amended in April 2004, notice is hereby given that the Federal Accounting Standards Advisory Board (FASAB) has issued Statement of Federal Financial Accounting Standard 31, Accounting For Fiduciary Activities. FASAB is also seeking input on its Preliminary Views document entitled Accounting for Social Insurance, Revised (PV).

Copies of the standard and Preliminary Views document can be obtained by contacting FASAB at 202-512-7350. The standard is also available on FASAB's home page http://www.fasab.gov. The Preliminary Views document can be found on the Web site http://www.fasab.gov/exposure.html.

FOR FURTHER INFORMATION CONTACT: Wendy M. Comes, Executive Director, 441 G St., NW., Mail Stop 6K17V, Washington, DC 20548, or call (202) 512-7350.

Authority: Federal Advisory Committee Act. Pub. L. No. 92-463.

Dated: October 24, 2006.
Charles Jackson,
Federal Register Liaison Officer.

[FR Doc. 06-8945 Filed 10-27-06; 8:45 am]

BILLING CODE 1610-01-M